INTERNATIONAL TRADE COMMISSION

[Inv. No. 337-TA-564; Enforcement Proceeding]

In the Matter of Certain Voltage Regulators, Components Thereof and Products Containing Same; Notice of Institution of Formal Enforcement Proceeding

AGENCY: U.S. International Trade Commission.

ACTION: Notice.

SUMMARY: Notice is hereby given that the U.S. International Trade Commission has instituted a formal enforcement proceeding relating to the limited exclusion order issued at the conclusion of the above-captioned investigation.

FOR FURTHER INFORMATION CONTACT: Paul M. Bartkowski, Office of the General Counsel, U.S. International Trade Commission, 500 E Street, SW., Washington, DC 20436, telephone (202) 708-5432. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov/. Hearing-impaired persons are advised that information on the matter can be obtained by contacting the Commission's TDD terminal on 202-205-1810.

SUPPLEMENTARY INFORMATION: The Commission instituted this investigation on March 22, 2006 based on a complaint filed by Linear Technology Corporation (“Linear”) of Milpitas, California. 71 FR 14545 (March 22, 2006). The complaint, as supplemented, alleged violations of section 337 of the Tariff Act of 1930 (“section 337”) in the importation into the United States, the sale for importation, and the sale within the United States after importation of certain voltage regulators, components thereof and products containing the same by reason of infringement of claims 1-14 and 23-25 of U.S. Patent No. 6,411,531 (“the ‘531 patent”) and claims 1-19, 31, 34, and 35 of U.S. Patent No. 6,580,258 (“the ‘258 patent”). The complaint further alleged that an industry in the United States exists as required by subsection (a)(2) of section 337. The complaint named Advanced Analogic Technologies, Inc. (“AATI”) of Sunnyvale, California as the sole respondent. Several claims were terminated during the investigation, and only claims 4, 9, and 26 of the ‘531 patent and claims 2, 3, 34, and 35 of the ‘258 patent were adjudicated.

On May 22, 2007, the presiding administrative law judge (“ALJ”) issued a final initial determination (“ID”), finding no violation of section 337. Specifically, the ALJ found that none of AATI's accused products directly infringed the asserted claims of the ‘258 patent, but that one accused product directly infringed claims 4 and 26 of the ‘531 patent. The ALJ found no indirect infringement of the asserted claims of either patent. As to validity, the ALJ determined that claim 35 of the ‘258 patent and claims 4, 9, and 26 of the ‘531 patent were invalid due to anticipation, rejecting other arguments of invalidity, unenforceability, and estoppel. The ALJ also determined that a domestic industry existed with regard to the ‘258 patent, but not with regard to the ‘531 patent, because of a failure to meet the technical prong of the domestic industry requirement.

On July 24, 2007, the Commission determined to review certain issues regarding the ‘258 patent, but determined not to review the ALJ's ID regarding the ‘531 patent (except for one issue on which it took no position), resulting in a final determination of no violation with respect to the ‘531 patent. On September 24, 2007, after review, the Commission issued its final determination in the investigation with respect to the ‘258 patent, reversing the ALJ on certain issues and finding a violation of section 337. Specifically, the Commission found claims 2, 3, and 34 of the ‘258 patent valid and infringed by one representative product of AATI. The Commission issued a limited exclusion order directed to AATI with regard to voltage regulators covered by claims 2, 3, and 34 of the ‘258 patent. The Commission also determined that the public interest factors enumerated in 19 U.S.C. 1337(d) did not preclude issuance of the limited exclusion order, and that the bond during the Presidential review period would be 100 percent of the entered value of each voltage regulator that is subject to the order.

Linear filed a complaint on February 20, 2008, an amended complaint on June 18, 2008, and a second amended complaint on August 29, 2008, requesting that the Commission institute a formal enforcement proceeding against AATI under Commission rule 210.75 for violation of the limited exclusion order.

Having examined the amended enforcement complaint, and having found it complies with the requirements for institution of a formal enforcement proceeding contained in Commission rule 210.75, the Commission has determined to institute a formal enforcement proceeding to determine whether AATI is in violation of the Commission's limited exclusion order issued in the investigation, and what, if any, enforcement measures are appropriate.

The following entities are named as parties to the formal enforcement proceeding: (1) Complainant Linear, (2) respondent AATI, and (3) a Commission investigative attorney to be designated by the Director, Office of Unfair Import Investigations.

The authority for the Commission's determination is contained in section 337 of the Tariff Act of 1930, as amended (19 U.S.C. 1337), and in section 210.75 of the Commission's Rules of Practice and Procedure (19 CFR 210.75).

Issued: October 1, 2008.
By order of the Commission.
Marilyn R. Abbott,
Secretary to the Commission.

[FR Doc. E8-24183 Filed 10-9-08; 8:45 am]

BILLING CODE 7020-02-P